DEPARTMENT OF ENERGY

Federal Energy Regulatory Commission

[Docket No. IC01-73-001 FERC Form No. 73]

Information Collection Submitted for Review and Request for Comments

February 4, 2002.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Pub. L. No. 104-13). Any interested person may file comments on the collection of information directly with OMB and should address a copy of those comments to the Commission as explained below. The Commission received comments from a single entity who supported the continued use of this information collection. These comments were in response to an earlier Federal Register notice of September 28, 2001 (66 FR.49654). The Commission has acknowledged these comments in its submission to OMB.

DATES: Comments regarding this collection of information are best assured of having their full effect if received within 30 days of this notification.

ADDRESSES: Address comments to Office of Management and Budget, Office of Information and Regulatory Affairs, Attention: Federal Energy Regulatory Commission, Desk Officer, 725 17th Street, NW. Washington, DC 20503. The Desk Officer may also be reached at (202)395-7318 or by fax at (202)395-7285. A copy of the comments should also be sent to Federal Energy Regulatory Commission, Office of the Chief Information Officer, Attention: Mr. Michael Miller, 888 First Street NE., Washington, DC 20426.

FOR FURTHER INFORMATION CONTACT: Mr. Miller may be reached by telephone at (202)208-1415, by fax at (202)208-2425, and by e-mail at mike.miller@ferc.gov.

SUPPLEMENTARY INFORMATION:

Description

The energy information collection submitted to OMB for review contains:

1. Collection of Information: FERC Form 73 “Oil Pipelines Service Life Data”.

2. Sponsor: Federal Energy Regulatory Commission.

3. Control No.: OMB No. 1902-0019. The Commission is now requesting that OMB approve a three-year extension of the current expiration date, without any changes to the existing collection. There is a decrease in the reporting burden due to an adjustment in the number of entities who are now subject to the Commission's jurisdiction and as a result must submit this report. This is a mandatory information collection requirement.

4. Necessity of Collection of Information: Submission of the information is necessary to enable the Commission to carry out its responsibilities in implementing the provisions of the Department of Energy Organization Act and the Interstate Commerce Act. Jurisdiction over oil pipelines, as it relates to the establishment of rates or charges for the transportation of oil by pipeline was transferred from the Interstate Commerce Commission to the Commission (FERC), pursuant to Sections 306 and 402 of the Department of Energy Organization Act (DOE Act). The Commission has authority over interstate oil pipelines as stated in the Interstate Commerce Act, § 6501 et. al. 49 U.S.C. A submission for new or changed depreciation rates is initiated by the oil pipeline company. As part of the information necessary for the subsequent investigation and review of the oil pipeline company's proposed depreciation rate, the pipeline companies are required to provide service life data as part of data submission if the proposed depreciation rates are based on remaining physical life calculations. This service life data is collected and submitted on FERC Form 73. The data is used by the Commission as input to several computer programs known collectively as the Depreciation Life Analysis System (DLAS) to assist in the selection of appropriate service lives and book depreciation rates. Book depreciation rates are used by oil pipeline companies to compute the depreciation portion of their operating expense which is a component of their cost of service which in turn is used to determine the transportation rate to assess customers. Commission staff's recommended book depreciation rates become legally binding when issued in an order by the Commission. These rates remain in effect until a subsequent review is requested and the outcome indicates that a modification is justified.

5. Respondent Description: The respondent universe currently comprises on average, 2 oil pipeline companies subject to the Commission's jurisdiction.

6. Estimated Burden: 80 total burden hours, 2 respondents, 1 response on occasion, 40 hours per response (average).

7. Estimated Cost Burden to Respondents: 80 hours ÷ 2,080 hours per year × $117,041 per year = $ 4,502 average cost per respondent = $2,251.

Statutory Authority: Sections 306 and 402 of the DOE Act, § 7155 and 7172, 42 U.S.C.; the ICC Act § 6501 et. al. 49 U.S.C. and Executive Order No. 12009, 42 FR 46277 (September 13, 1977).

Magalie R. Salas,
Secretary.

[FR Doc. 02-3207 Filed 2-8-02; 8:45 am]

BILLING CODE 6717-01-P